DEPARTMENT OF STATE

[Public Notice 4225]

Notice of Meetings: United States International Telecommunication Advisory Committee Preparations for Various Telecommunication Standardization Meetings, First Half of 2003

The Department of State announces meetings of the U.S. International Telecommunication Advisory Committee (ITAC). The purpose of the Committee is to advise the Department on policy, technical and operational issues with respect to international telecommunications standardization bodies such as the International Telecommunication Union (ITU).

The ITAC will meet periodically throughout the first half of 2003 to prepare for various ITU Telecommunication Standardization Study Group meetings. Times and locations of these meetings will be announced via the email reflectors (list servers) identified below. People may join these reflectors by sending a message identifying the list to itac@state.gov.

TSAG Preparations: The ITAC will meet January 22 and February 5, 2003 to prepare for the February meeting of the ITU-T Telecommunication Sector Advisory Group (TSAG), and on the afternoon of April 22 to debrief the results of TSAG and initiate preparations for the next TSAG meeting. Preparations for the next TSAG will continue at a meeting in the afternoon of May 28. Location and times for these meetings will be announced on the reflector list “itac-t@almsntsa.lmlist.state.gov”.

ITU-T Study Group 2 preparations: The ITAC will meet April 8 to prepare for ITU-T Study Group 2. Location and times for this meeting will be announced on the reflector list “sganumberingadhoc@almsntsa.lmlist.state.gov”.

ITU-T Study Group 3 preparations: The ITAC will meet on January 23 from 9:30 to 11 to debrief the December 2002 SG3 meeting, and on March 5 and April 16 from 2 to 4 to prepare for the next ITU-T Study Group 3. Locations for these meetings will be announced on the reflector list “sag@almsntsa.lmlist.state.gov”.

ITU-T Study Group 9 preparations: The ITAC will meet March 12 to prepare for ITU-T Study Group 9. Location and times for this meeting will be announced on the reflector list “sgd@almsntsa.lmlist.state.gov”.

ITU-T Study Group 13 preparations: The ITAC will meet June 26 to prepare for ITU-T Study Group 13. Location and times for this meeting will be announced on the reflector list “sgb@almsntsa.lmlist.state.gov”.

ITU-T Study Group 16 preparations: The ITAC will meet April 30 to prepare for ITU-T Study Group 16. Location and times for this meeting will be announced on the reflector list “sgd@almsntsa.lmlist.state.gov”.

ITU-T Special Study Group preparations: The ITAC will meet May 19-28, 2003 via email to prepare for ITU-T Special Study Group (IMT2000 and beyond) on the reflector list “sgd-ssg@almsntsa.lmlist.state.gov”. Originators must post their documents to the reflector by May 19; comments on the documents posted to the same address by May 23, originators' responses posted by May 27, and final action will be posted by the Department of State on May 28. If necessary, this meeting may be continued through a later date via email or conference call, as announced on the reflector.

CITEL PCC I Group Preparations: The ITAC will meet on February 13, 2003 from 2-4, and March 12, 2003 from 2-4 to prepare for the next CITEL PCC I meeting. Location for these meetings will be announced on the reflector list PCCI-CITEL@almsntsa.lmlist.state.gov.

This meeting announcement does not meet the official deadline due to constraints imposed by the travel of senior officials.

Members of the public will be admitted to the extent that seating is available, and may join in the discussions, subject to the instructions of the Chair. Entrance to the Department of State is controlled; people intending to attend a meeting at the Department of State should send their clearance data by fax to (202) 647-7407 or email to worsleydm@state.gov not later than 24 hours before the meeting. Please include the name of the meeting, your name, social security number, date of birth and organizational affiliation. One of the following valid photo identifications will be required for admittance: U.S. driver's license with your picture on it, U.S. passport, or U.S. Government identification. Directions to the meeting location may be obtained by calling the ITAC Secretariat at (202) 647-2592 or email to worsleydm@state.gov.

Dated: January 27, 2003.
Marian Gordon,
Director, Telecommunication & Information Standardization, Department of State.

[FR Doc. 03-2533 Filed 2-3-03; 8:45 am]

BILLING CODE 4710-45-P